NUCLEAR REGULATORY COMMISSION

[Docket Nos. 50-336 and 50-423]

Dominion Nuclear Connecticut, Inc; Notice of Receipt and Availability of Application for Renewal of Millstone Power Station, Units 2 and 3 Facility Operating License Nos. DPR-65 and NPF-49 for an Additional 20-Year Period

The U.S. Nuclear Regulatory Commission (NRC or Commission) has received an application, dated January 20, 2004, from Dominion Nuclear Connecticut, Inc., filed pursuant to Sections 104b (Operating License No. DPR-65) and 103 (Operating License No. NPF-49) of the Atomic Energy Act of 1954, as amended, and 10 CFR part 54, to renew the operating licenses for the Millstone Power Station, Units 2 and 3, respectively. Renewal of the license would authorize the applicant to operate each facility for an additional 20-year period beyond the period specified in the respective current operating licenses. The current operating license for the Millstone Unit 2 (DRP-65) expires on July 31, 2015, and the current operating license for Millstone Unit 3 expires on November 25, 2025. The Millstone Power Station Unit 2 is a pressurized-water reactor designed by Combustion Engineering, and Unit 3 is a pressurized-water reactor designed by Westinghouse Electric Corporation. Both units are located in Waterford, Connecticut. The acceptability of the tendered application for docketing, and other matters including an opportunity to request for a hearing, will be the subject of subsequent Federal Register notices.

Copies of the application are available for public inspection at the Commission's Public Document Room (PDR), located at One White Flint North, 11555 Rockville Pike (first floor), Rockville, Maryland, or electronically from the NRC's Agencywide Documents Access and Management System (ADAMS) Public Electronic Reading Room under accession number ML040270166. The ADAMS Public Electronic Reading Room is accessible from the NRC web site at http://www.nrc.gov/reading-rm/adams.html. In addition, the application is available on the NRC Web page at http://www.nrc.gov/reactors/operating/licensing/renewal/applications.html, while the application is under review. Persons who do not have access to ADAMS or who encounter problems in accessing the documents located in ADAMS, should contact the NRC's PDR Reference staff at 1-800-397-4209, extension 301-415-4737, or by email to pdr@nrc.gov.

A copy of the license renewal application for the Millstone Power Station, Units 2 and 3, is also available to local residents near the Millstone Power Station at the Waterford Public Library, 49 Rope Ferry Road, Waterford, Connecticut 06385-2806, and at the Three Rivers Community College, Thames River Campus, 574 New London Turnpike, Norwich, Connecticut 06360.

Dated at Rockville, Maryland, this 28th day of January 2004.
For the Nuclear Regulatory Commission.
Pao-Tsin Kuo,
Program Director, License Renewal and Environmental Impacts, Division of Regulatory Improvement Programs, Office of Nuclear Reactor Regulation.

[FR Doc. 04-2113 Filed 2-2-04; 8:45 am]

BILLING CODE 7590-01-P